DEPARTMENT OF STATE

[Delegation of Authority No. 363]

Delegation by the Secretary of State to the Assistant Secretary for European and Eurasian Affairs; U.S. Participation in the “Milan Expo 2015”

By virtue of the authority vested in me as Secretary of State, including Section 1 of the State Department Basic Authorities Act, as amended (22 U.S.C. 2651a); the transfer provisions of the Foreign Affairs Reform and Restructuring Act of 1998, codified in 22 U.S.C. 6532; and pursuant to Executive Order 12048, as amended, I hereby delegate to the Assistant Secretary of State for European and Eurasian Affairs, to the extent authorized by law, the authority of the President under Section 102(a)(3) of the Mutual Educational and Cultural Exchange Act of 1961, Public Law 87-286, to provide for U.S. participation in the “Milan Expo 2015.”

Any act, executive order, regulation, or procedure subject to, or affected by, this delegation shall be deemed to be such act, executive order, regulation, or procedure as amended from time to time.

Notwithstanding this delegation of authority, the Secretary, the Deputy Secretary, the Deputy Secretary for Management and Resources, and the Under Secretary for Political Affairs may at any time exercise any authority or function delegated by this delegation of authority.

This delegation of authority does not rescind, supersede, or in any way affect the validity of any other delegation of authority. This includes Delegation of Authority 234, dated October 1, 1999, which remains in effect.

This delegation of authority shall be published in the Federal Register.

Dated: July 15, 2013.
John F. Kerry,
Secretary of State.

[FR Doc. 2013-17802 Filed 7-23-13; 8:45 am]

BILLING CODE P